DEPARTMENT OF COMMERCE

National Oceanic and Atmospheric Administration

[RTID 0648-XF254]

Takes of Marine Mammals Incidental to Specified Activities; Taking Marine Mammals Incidental to National Oceanic and Atmospheric Administration Office of Marine and Aviation Operations Research Vessel Relocation at Naval Station Newport, Rhode Island

AGENCY: National Marine Fisheries Service (NMFS), National Oceanic and Atmospheric Administration (NOAA), Commerce.

ACTION: Notice; proposed issuance of an Incidental Harassment Authorization (IHA); request for comments.

SUMMARY: NMFS has received a request from the U.S. Navy on behalf of NOAA Office of Marine and Aviation Operations (OMAO) for an incidental harassment authorization (IHA) that would authorize take for a subset of activities in an IHA previously issued to OMAO to incidentally take marine mammals from construction activities at Naval Station (NAVSTA) Newport, Rhode Island, by Level B harassment only. Pursuant to the Marine Mammal Protection Act (MMPA), NMFS is requesting comments on its proposal to issue an IHA to incidentally take marine mammals during the specified activities. NMFS is also requesting comments on a possible 1-year renewal IHA that could be issued under certain circumstances and if all requirements are met, as described in Request for Public Comments at the end of this notice. NMFS will consider public comments prior to making any final decision on the issuance of the requested MMPA authorizations and agency responses will be summarized in the final notice of our decision.

DATES: Comments and information must be received no later than January 20, 2026.

ADDRESSES: Comments should be addressed to the Permits and Conservation Division, Office of Protected Resources, National Marine Fisheries Service and should be submitted via email to ITP.cockrell@noaa.gov.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

Electronic copies of the original application and supporting documents (including NMFS Federal Register notices of the original proposed and final authorizations, and the previous IHA), as well as a list of the references cited in this document, may be obtained online at: https://www.fisheries.noaa.gov/action/incidental-take-authorization-noaa-office-marine-and-aviation-operations-research-vessel. In case of problems accessing these documents, please call the contact listed above.

FOR FURTHER INFORMATION CONTACT: Craig Cockrell, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed incidental take authorization may be provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to in shorthand as “mitigation”); and requirements pertaining to the mitigation, monitoring and reporting of such takings are set forth.

National Environmental Policy Act

To comply with the National Environmental Policy Act of 1969 (NEPA; 42 U.S.C. 4321 et seq.) and NOAA Administrative Order (NAO) 216-6A, NMFS must review our proposed action (i.e., the issuance of an IHA) with respect to potential impacts on the human environment. This action is consistent with categories of activities identified in Categorical Exclusion B4 (IHAs with no anticipated serious injury or mortality) of the Companion Manual for NOAA Administrative Order 216-6A, which do not individually or cumulatively have the potential for significant impacts on the quality of the human environment and for which we have not identified any extraordinary circumstances that would preclude this categorical exclusion. Accordingly, NMFS has preliminarily determined that the issuance of the proposed IHA qualifies to be categorically excluded from further NEPA review.

We will review all comments submitted in response to this notification prior to concluding our NEPA process or making a final decision on the IHA request.

History of Request

On May 6, 2022, NMFS received a request from the U.S. Navy on behalf of OMAO for an IHA to take marine mammals incidental to construction activities associated with the relocation of NOAA research vessels to the Naval Station Newport in Rhode Island. OMAO's request was for authorization of take of seven species of marine mammals by Level B harassment and, for four of these species, Level A harassment. NMFS published a notice of the proposed IHA in the Federal Register on November 2, 2022 (87 FR 66133). NMFS subsequently issued the IHA on December 21, 2022 (87 FR 78072), which was effective from February 1, 2024 through January 31, 2025.

On November 15, 2024, NMFS received an application for the renewal of the 2024 IHA. The remaining activities of the construction project included removal of abandoned guide piles along the bulkhead, demolition of the current floating dock, installation of gangway support piles and fender piles, installation and removal of piles for a construction template, and construction of a small boat floating dock. Therefore, NMFS issued a renewal (90 FR 11400, March 6, 2025) (herein referred to as the 2025 renewal IHA) to OMAO authorizing take incidental to the remaining work that could not be accomplished during the timeframe of the 2024 IHA. This renewal will expire on January 31, 2026.

On August 27, 2025, the Navy on behalf of OMAO submitted an application for the remaining work that was not accomplished under the 2024 IHA and the 2025 renewal IHA. The application was deemed adequate and complete on December 5, 2025 (the 2025 Request). OMAO's request is for take of the same seven species of marine mammals, comprising three cetacean and four pinniped stocks, by Level B harassment only. Neither OMAO nor NMFS, expect serious injury or mortality to result from this activity, and therefore, an IHA is appropriate. Take by Level A harassment (injury) is considered unlikely, even absent mitigation, based on the small sizes of the associated harassment zones. The 2024 IHA and the 2025 renewal IHA included take by Level A harassment because during that phase of construction the use of impact and a down the hole (DTH) mono-hammer was used and resulted in larger Level A harassment zones increasing the likelihood of that level of take.

This request is very similar to the 2024 IHA and NMFS relies substantially herein, as appropriate, on the information previously presented in the notices associated with the issuance of the 2024 IHA (87 FR 78072, December 21, 2022). This proposed IHA would authorize take for a subset of the activities originally planned during the 2024 IHA and the 2025 renewal IHA. However, some changes have occurred during this year's evaluation of the project. Source levels and harassment zone distances have been adjusted based on updated source level information and amount of time pile driving is expected to occur each day. Marine mammal densities have also been updated based on new information. The proposed mitigation, monitoring, and reporting measures remain the same as prescribed in the 2024 IHA with slight modifications (e.g., shutdown zones distance changes) (see Proposed Mitigation and Proposed Monitoring and Reporting). The proposed IHA would be valid for the statutory maximum of 1 year from the date of effectiveness, and will become effective upon written notification from the applicant to NMFS, but not beginning later than 1 year from the date of issuance or extending beyond 2 years from the date of issuance.

Description of the Proposed Activity and Anticipated Impacts

The proposed activity would establish adequate pier, shoreside, and support facilities to support the relocation of four NOAA Atlantic Fleet research vessels at NAVSTA Newport, RI. This includes the construction of a new pier, trestle, small boat floating dock, bulkhead, and shore side facilities in Coddington Cove. The 2024 IHA and the 2025 renewal IHA covered the installation and removal of 1,103 piles of various sizes over an estimated 343 days of pile driving with impact and vibratory hammers (87 FR 78072, December 21, 2022). OMAO did not complete all the initially planned work, and now requests this proposed IHA to authorize take incidental to the installation of the remaining 201 16-in (inch) steel fender piles.

The 2024 IHA and the 2025 renewal IHA authorized Level A and B harassment of four species of marine mammals and Level B harassment of three species of marine mammals. OMAO is only requesting authorization to harass these same species by Level B harassment only. Take by Level A harassment is unlikely given the small sizes of the harassment zones and expected shutdown procedure (see Proposed Mitigation) would likely prevent auditory injury of all marine mammal species that are proposed for take under this IHA.

To support public review and comment on the IHA that NMFS is proposing to issue here, we refer to the documents related to the previously issued IHA and discuss any new or changed information here. The previous documents include the Federal Register notice of the proposed IHA (87 FR 66133, November 2, 2022), Federal Register notice of issuance of the 2024 IHA (87 FR 78072, December 21, 2022), and all associated references and documents. NMFS also refers the reader to OMAO's previous and current applications and monitoring reports which can be found at https://www.fisheries.noaa.gov/action/incidental-take-authorization-noaa-office-marine-and-aviation-operations-research-vessel.

Detailed Description of the Action

A detailed description of the proposed construction activities is found in these aforementioned Federal Register notices and documents associated with the previous IHAs. Work completed under the 2024 IHA and 2025 renewal included the use of vibratory, impact, rotary drill, and a DTH mono-hammer to install and remove piles at NAVSTA Newport. During the work completed thought the authorized period of these IHAs 782 piles were either installed or removed out of the 983 originally planned.

The location, timing, and nature of the activities, including the types of equipment planned for use (vibratory hammers), are identical to those described in the previous notices. Of the 983 piles 201 fender piles were unable to be installed during the period of authorization under the 2024 IHA and the 2025 renewal. Take incidental to this work would be authorized under this proposed IHA. In the 2024 IHA it was expected to require 50 days to install the fender piles but the Navy and OMAO have revised that estimate to 130 days in this new application. This revision was determined by the Navy and OMAO based on updated daily production estimates of vibratory pile installation.

Description of Marine Mammals

A description of the marine mammals in the area of the activities is found in the previous documents for the 2024 IHA (87 FR 66133, November 2, 2022; 87 FR 78072, December 21, 2022), which remains applicable to this proposed IHA. In addition, NMFS reviewed the most recent draft Stock Assessment Reports (SARs, found on NMFS' website at https://www.fisheries.noaa.gov/national/marine-mammal-protection/marine-mammal-stock-assessments), up-to-date information on relevant Unusual Mortality Events (UMEs; https://www.fisheries.noaa.gov/national/marine-mammal-protection/marine-mammal-unusual-mortality-events), and recent scientific literature and determined that no new information affects our original analysis of impacts under the 2024 IHA.

NMFS notes that, since the issuance of the 2024 IHA, new SARs are available for common dolphin (Delphinus delphis), harbor porpoise (Phocoena phocoena), and gray seals (Halichoerus grypus). The best estimate of abundance for each of these species has declined since the issuance of the 2024 IHA. The common dolphin abundance estimate decreased from 172,974 to 93,100 individuals, the harbor porpoise abundance estimate decreased from 95,543 to 85,765 individuals, and the estimate for the portion of gray seals present in U.S. waters decreased from 27,911 to 27,300 individuals. None of these abundance estimate decreases change the findings NMFS made in the 2024 IHA.

Potential Effects on Marine Mammals and Their Habitat

A description of the potential effects of the specified activities on marine mammals and their habitat may be found in the documents supporting the 2024 IHA (87 FR 66133, November 2, 2022; 87 FR 78072, December 21, 2022), which remains applicable to the issuance of this proposed IHA. At present, there is no new information on potential effects that would impact our analysis.

Estimated Take

A detailed description of the methods used to estimate take anticipated to occur incidental to the proposed project can be found in the previous Federal Register notices for the 2024 IHA (87 FR 66133, November 2, 2022; 87 FR 78072, December 21, 2022) and the Federal Register notices for the renewal (90 FR 8009, January 23, 2025; 90 FR 11400, March 6, 2025) including incorporation of the updated 2024 Technical Guidance (89 FR 84872, October 24, 2024).

NMFS also updated the source level that was used for the vibratory installation of 16-in steel pipe piles in the previous Federal Register notices for the 2024 IHA (87 FR 66133, November 2, 2022; 87 FR 78072, December 21, 2022) from 162 Root Mean Square (RMS) decibel (dB) re 1 micro pascal (μPa) to 163 RMS (dB re 1 μPa). This update to the source level has changed the estimated Level A and Level B harassment zones that were previously estimated for the 2024 IHA and renewal of that IHA. The estimated radial distance to the Level B harassment threshold for all marine mammals is 7,356 meters (m) (2024 IHA estimated distance was 6,310 m). When calculating the maximum ensonified area the distance is truncated by shoreline in all directions, so sound will not reach the full distance of the calculated Level B harassment isopleth. Therefore, the maximum ensonified area for this project is 8.52 kilometers (km²). The 2024 IHA estimated the same ensonified area for the 16-in steel fender piles. Table 1 outlines the updated zone sizes and the corresponding area of the zones.

Table 1—Distance to Level A Harassment and Level B Harassment Thresholds for Vibratory Installation of the 16-in. Steel Fender Piles
Injury (AUD INJ onset) Level A *: High-frequency cetaceans 201 dB sound exposure level (SEL)Cumulative (CUM) threshold radial distance/area | Injury (AUD INJ onset) Level A *: Very high-frequency cetaceans 181 dB SELCUM threshold radial distance/area | Injury (AUD INJ onset) Level A *: Phocid Pinnipeds 195 dB SELCUM threshold radial distance/area | Behavioral disturbance Level B: All marine mammals 120 dB RMS threshold baseline radial distance/area
7.6 m (0.9 m)/181.5 m² (3 m²) | 16.3 m (14.3 m)/834.7 m² (642.4 m²) | 25.6 m (5.9 m)/2,058.9 m² (109.3 m²) | 7,356 m (6,310 m)/8.5 km².
* Level A harassment zones and corresponding areas from the 2024 IHA in parentheticals. The Level B harassment zone area is the same as the calculated area in the 2024 IHA.

The Navy and OMAO updated their application with revised densities for marine mammals based on updates to the Navy Marine Species Density Database (Roberts et al. 2023). A detailed discussion of the breakdown of the overall pinniped density by species is available in the 2024 IHA Federal Register notices (87 FR 66133, November 2, 2022; 87 FR 78072, December 21, 2022) and section 3 of the Navy and OMAO's application. These densities have been updated since the issuance of the 2024 IHA and are available in table 2 for each species.

Table 2—Updated Marine Mammal Densities
Species | Species density (animal/km²) *
Atlantic white-sided dolphin | 0.0001 (0.003)
Short-beaked common dolphin | 0.004 (0.011)
Harbor porpoise | 0.014 (0.012)
Harbor seal | 0.439 (0.0623)
Gray seal | 0.306 (0.131)
Harp seal | 0.131 (0.05)
Hooded seal | 0 (0.001)
* Densities used to estimate take in the 2024 IHA are in parentheses.

As described above the take estimates were calculated using the same methods as the 2024 IHA Federal Register notices (87 FR 66133, November 2, 2022; 87 FR 78072, December 21, 2022). However, given the low number of expected takes of Atlantic white-sided dolphin and common dolphins NMFS used data from Oliveira et al. (2024) to estimate the average group size of these species at 16 and 30 individuals respectively. This group size was used as a proxy for the take estimate since the calculated take was lower than the average group size. The proposed take to be authorized for this project can be found in table 3.

Table 3—Estimated Take by Level B Harassment by Species, and Percent of Stock
Species | Stock | Level B take request | Stock size | Take as a percentage of the stock
Atlantic white-sided dolphin | Western North Atlantic Stock | 16 | 93,233 | <0.1
Short-beaked common dolphin | Western North Atlantic Stock | 30 | 93,100 | <0.1
Harbor porpoise | Gulf of Maine/Bay of Fundy | 15 | 85,765 | <0.1
Harbor seal | Western North Atlantic Stock | 486 | 61,336 | 3.4
Gray seal | Western North Atlantic Stock | 339 | 27,911 | 5.2
Harp seal | Western North Atlantic Stock | 145 | 7,600,000 | <0.1
Hooded seal | Western North Atlantic Stock | 1 | UNK | N/A

Proposed Mitigation

The proposed mitigation measures are nearly identical to those included in the FR Notice announcing the final 2024 IHA (87 FR 66133, November 2, 2022; 87 FR 78072, December 21, 2022) and the discussion of the least practicable adverse impact included in that document remains accurate. The shutdown zone sizes have been updated by the Navy. The shutdown zone sizes used in the 2024 IHA for this activity were 20 m for cetaceans and 10 m for pinnipeds. The following measures are proposed for inclusion in this IHA:

Implementation of a Shutdown Zone

For all of the proposed pile driving activities, OMAO would implement shutdowns of pile driving activity within the established zone. Implementation of shutdowns will be used to avoid incidental Level A harassment takes from the proposed vibratory pile driving. The established shutdown zone would be 35 m for all marine mammal hearing groups during the installation of the 16-in steel fender piles. The placement of protected species observers (PSOs) during all pile driving activities (see Proposed Monitoring and Reporting section) would ensure the full extent of shutdown zones are visible to PSOs. If a marine mammal is observed within the shutdown zone, construction activity would be delayed until the animal has voluntarily exited and been visually confirmed beyond the shutdown zone or has not been observed for 15 minutes.

Establishment of a Monitoring Zone

A monitoring zone provides utility for observing by establishing monitoring protocols for areas adjacent to the shutdown zones. The monitoring zone enables PSOs to be aware of and communicate the presence of marine mammals in the project area outside the shutdown zone and thus prepare for a potential cessation of activity should the animal enter the shutdown zone. PSOs would monitor the monitoring zone to the extent practicable to maintain the best sense of where animals are moving relative to a zone boundary. The monitoring zone is equivalent to the Level B harassment zone distance which is 7,356 m. When a marine mammal for which Level B harassment take is authorized is present in the Level B harassment zone, activities would continue.

Proposed Monitoring and Reporting

Visual Monitoring

A minimum of two NMFS-approved PSOs must be stationed at strategic vantage points for the entirety of active construction operations. PSOs would be independent of the activity contractor (for example, employed by a subcontractor) and have no other assigned tasks during monitoring periods. At least one PSO would have prior experience performing the duties of a PSO during an activity pursuant to a NMFS-issued Incidental Take Authorization (ITA) or Letter of Concurrence (LOC). Other PSOs may substitute other relevant experience, education (degree in biological science or related field), or training for prior experience performing the duties of a PSO during construction activity pursuant to a NMFS-issued ITA/LOC.

Pre- and Post-Activity Monitoring

Monitoring would take place from 30 minutes prior to initiation of pile driving activity (i.e., pre-start clearance monitoring) through 30 minutes post-completion of pile driving activity. In addition, monitoring for 30 minutes would take place whenever a break in the specified activity (i.e., vibratory pile driving) of 30 minutes or longer occurs. Pre-start clearance monitoring would be conducted during periods of visibility sufficient for the lead PSO to determine that the shutdown zones (i.e. 35 m) are clear of marine mammals. Pile driving may commence following 30 minutes of observation when the determination is made that the shutdown zones are clear of marine mammals.

PSO Requirements

PSOs would be independent (i.e., employees of the entity conducting construction activities may not serve as PSOs) who have no other assigned tasks during monitoring periods. At least one PSO would have prior experience performing the duties of a PSO during an activity pursuant to a NMFS-issued ITA/LOC. Other PSOs may substitute other relevant experience, education (degree in biological science or related field), or training for prior experience performing the duties of a PSO during construction activity pursuant to a NMFS-issued incidental take authorization. Other PSOs may substitute education (degree in biological science or related field) or training for experience.

Reporting

OMAO would submit a draft marine mammal monitoring report to NMFS within 90 days after the completion of pile driving activities, or 60 days prior to a requested date of issuance of any future IHAs for the project, or other projects at the same location, whichever comes first. The marine mammal monitoring report would include an overall description of work completed, a narrative regarding marine mammal sightings, and associated PSO data sheets. The details of what would be included in the report are available in the 2024 IHA Federal Register notices (87 FR 66133, November 2, 2022; 87 FR 78072, December 21, 2022).

Preliminary Determinations

When issuing the 2024 IHA (87 FR 78072, December 21, 2022), NMFS found OMAO's proposed construction project would have a negligible impact on species or stocks annual rates of recruitment and survival and the amount of taking would be small relative to the population size of such species or stocks (less than 4 percent). OMAO's proposed construction activities are nearly identical to those analyzed in support of the 2024 IHA. Additionally, the potential effects of the activity, taking into consideration the proposed mitigation and related monitoring measures, are identical to those evaluated in support of the 2024 IHA. The estimated take proposed to be authorized for this subset of activity is less than what was authorized in the 2024 IHA (see table 3). The total amount of takes proposed for authorization are small relative to the best available population size of each species or stock (less than five percent for all stocks). Additionally, only Level B harassment is proposed for authorization, which NMFS expects would be of a lower severity, predominately in the form of avoidance of the sound sources that may cause a temporary abandonment of the location during active source use that may result in a temporary interruption of foraging activities for some species. NMFS does not expect that the proposed activity will have long-term or permanent impacts as the acoustic source would be relatively brief amounts of time in relatively confined footprints and therefore, no impacts on the annual rates of recruitment or survival are expected to result.

As previously discussed in the 2024 IHA (87 FR 78072, December 21, 2022), impacts from the construction activity are expected to be localized to the specific area of activity. The specified activity and associated ensonified areas do not include habitat areas known to be of special significance (Biologically Import Areas or Endangered Species Act (ESA)-designated critical habitat) of any marine mammals species. There are over 22 documented haul-out sites throughout Narragansett Bay mainly occupied by harbor seals (The Jamestown Press 2025). The Three Sisters seal haulout is the closest to the project area, just over 1 mile (1.6 km) south of the pier on the open water edge of Coddington Cove. As hauled out seals would be out of the water, no in-water effects are expected nor are any in-air effects expected given the distance of the haulout location from the project area. In conclusion, there is no new information suggesting that our analysis or findings should change.

Based on the information contained here and in the referenced documents, NMFS has preliminarily determined the following: (1) the required mitigation measures will effect the least practicable impact on marine mammal species or stocks and their habitat; (2) the proposed authorized takes will have a negligible impact on the affected marine mammal species or stocks; (3) the proposed authorized takes represent small numbers of marine mammals relative to the affected stock abundances; (4) OMAO's activities will not have an unmitigable adverse impact on taking for subsistence purposes as no relevant subsistence uses of marine mammals are implicated by this action, and (5) appropriate monitoring and reporting requirements are included.

Endangered Species Act (ESA)

Section 7(a)(2) of the ESA of 1973 (16 U.S.C. 1531 et seq.) requires that each Federal agency ensures that any action it authorizes, funds, or carries out is not likely to jeopardize the continued existence of any endangered or threatened species or result in the destruction or adverse modification of designated critical habitat. To ensure ESA compliance for the issuance of IHAs, NMFS consults internally whenever we propose to authorize take for endangered or threatened species.

No incidental take of ESA-listed species is proposed for authorization or expected to result from this activity. Therefore, NMFS has determined that formal consultation under section 7 of the ESA is not required for this action.

Proposed Authorization

As a result of these preliminary determinations, NMFS proposes to issue an IHA to OMAO for conducting construction activities, in Newport, RI, provided the previously mentioned mitigation, monitoring, and reporting requirements are incorporated. A draft of the proposed IHA can be found at https://www.fisheries.noaa.gov/action/incidental-take-authorization-noaa-office-marine-and-aviation-operations-research-vessel.

Request for Public Comments

We request comment on our analyses (included in both this document and the referenced documents supporting the 2024 IHA), the proposed authorization, and any other aspect of this notice of Proposed IHA for the proposed construction project. We also request comment on the potential for renewal of this proposed IHA as described in the paragraph below. Please include with your comments any supporting data or literature citations to help inform our final decision on the request for MMPA authorization.

On a case-by-case basis, NMFS may issue a one-time, 1-year renewal IHA following notice to the public providing an additional 15 days for public comments when (1) up to another year of identical or nearly identical, or nearly identical, activities as described in the Description of the Proposed Activity and Anticipated Impacts section of this notice is planned or (2) the activities as described in the Description of the Proposed Activity and Anticipated Impacts section of this notice would not be completed by the time the IHA expires and a renewal would allow for completion of the activities beyond that described in the History of Request section of this notice, provided all of the following conditions are met:

• A request for renewal is received no later than 60 days prior to the needed renewal IHA effective date (recognizing that the renewal IHA expiration date cannot extend beyond one year from expiration of the initial IHA).

• The request for renewal must include the following:

(1) An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

(2) A preliminary monitoring report showing the results of the required monitoring to date and an explanation showing that the monitoring results do not indicate impacts of a scale or nature not previously analyzed or authorized.

• Upon review of the request for renewal, the status of the affected species or stocks, and any other pertinent information, NMFS determines that there are no more than minor changes in the activities, the mitigation and monitoring measures will remain the same and appropriate, and the findings in the initial IHA remain valid.

Dated: December 16, 2025.
Kimberly Damon-Randall,
Director, Office of Protected Resources, National Marine Fisheries Service.

[FR Doc. 2025-23393 Filed 12-18-25; 8:45 am]

BILLING CODE 3510-22-P